DEPARTMENT OF LABOR

Mine Safety and Health Administration

Petitions for Modification of Application of Existing Mandatory Safety Standards

AGENCY: Mine Safety and Health Administration, Labor.

ACTION: Notice.

SUMMARY: This notice is a summary of petitions for modification submitted to the Mine Safety and Health Administration (MSHA) by the parties listed below.

DATES: All comments on the petitions must be received by MSHA's Office of Standards, Regulations, and Variances on or before March 5, 2018.

ADDRESSES: You may submit your comments, identified by “docket number” on the subject line, by any of the following methods:

1. Electronic Mail: zzMSHA-comments@dol.gov. Include the docket number of the petition in the subject line of the message.

2. Facsimile: 202-693-9441.

3. Regular Mail or Hand Delivery: MSHA, Office of Standards, Regulations, and Variances, 201 12th Street South, Suite 4E401, Arlington, Virginia 22202-5452, Attention: Sheila McConnell, Director, Office of Standards, Regulations, and Variances. Persons delivering documents are required to check in at the receptionist's desk in Suite 4E401. Individuals may inspect copies of the petition and comments during normal business hours at the address listed above.

MSHA will consider only comments postmarked by the U.S. Postal Service or proof of delivery from another delivery service such as UPS or Federal Express on or before the deadline for comments.

FOR FURTHER INFORMATION CONTACT: Barbara Barron, Office of Standards, Regulations, and Variances at 202-693-9447 (Voice), barron.barbara@dol.gov (Email), or 202-693-9441 (Facsimile). [These are not toll-free numbers.]

SUPPLEMENTARY INFORMATION: Section 101(c) of the Federal Mine Safety and Health Act of 1977 and Title 30 of the Code of Federal Regulations Part 44 govern the application, processing, and disposition of petitions for modification.

I. Background

Section 101(c) of the Federal Mine Safety and Health Act of 1977 (Mine Act) allows the mine operator or representative of miners to file a petition to modify the application of any mandatory safety standard to a coal or other mine if the Secretary of Labor (Secretary) determines that:

1. An alternative method of achieving the result of such standard exists which will at all times guarantee no less than the same measure of protection afforded the miners of such mine by such standard; or

2. That the application of such standard to such mine will result in a diminution of safety to the miners in such mine.

In addition, the regulations at 30 CFR 44.10 and 44.11 establish the requirements and procedures for filing petitions for modification.

II. Petitions for Modification

Docket Number: M-2017-041-C.

Petitioner: Rosebud Mining Company, 301 Market Street, Kittanning, Pennsylvania 16201.

Mines: Cresson Mine, MSHA I.D. No. 36-09308 and Madison Mine, MSHA I.D. No. 36-09127, located in Cambria County, Pennsylvania; Barret Mine, MSHA I.D. No. 36-09342, Knob Creek Mine, MSHA I.D. No. 36-09394, Heilwood Mine, MSHA I.D. No. 36-09407, Brush Valley Mine, MSHA I.D. No. 36-09437, Lowry Mine, MSHA I.D. No. 36-09287, Coral-Graceton Mine, MSHA I.D. No. 36-09595 and Crooked Creek Mine, MSHA I.D. No. 36-09972, located in Indiana County, Pennsylvania; Tusky Mine, MSHA I.D. No. 33-04509, located in Tuscarawas County, Ohio; Penfield Mine, MSHA I.D. No. 36-09355 and Harmony Mine, MSHA I.D. No. 36-09477, located in Clearfield County, Pennsylvania; Bergholz 7 Mine, MSHA I.D. No. 33-04565, located in Jefferson County, Ohio; Mine 78, MSHA ID No. 36-09371, located in Somerset County, Pennsylvania; Vail Mine, MSHA I.D. No. 33-04645, located in Harrison County, Ohio; Darmac Mine, MSHA I.D. No. 36-08135, Dutch Run Mine, MSHA I.D. No. 36-08701, Parkwood Mine, MSHA I.D. No. 36-08785, Logansport Mine, MSHA I.D. No. 36-08841 and Long Run Mine, MSHA I.D. No. 36-09468, located in Armstrong County, Pennsylvania; Kocjancic Mine, MSHA I.D. No. 36-09436, located in Jefferson County, Pennsylvania;

Regulation Affected: 30 CFR 75.500(d) (Permissible electric equipment).

Modification Request: The petitioner requests a modification of the existing standard to permit the use of Dell Laptop Computers or equivalent to maintain and troubleshoot the continuous miner proximity detection system in or inby the last open crosscut.

The petitioner states that:

(1) The laptops are required to troubleshoot and perform diagnostic tests on the proximity detection systems utilized by the continuous mining machines.

(2) Problems with the proximity detection system on continuous mining machines requiring repair with a nonpermissible diagnostic laptop computer will occur in the last open crosscut.

(3) The proposed petition will apply to nonpermissible Dell Laptop computers with 11.4v Li-ion rechargeable batteries and/or similar low-voltage or battery powered nonpermissible computers (diagnostic computer).

(4) The diagnostic computer will be utilized as long as equivalent permissible equipment is not available.

(5) Prior to use of the diagnostic computer, it will be inspected by a qualified person as specified in 30 CFR 75.153. The qualified person will examine the diagnostic computer to ensure that it is being maintained in safe operating condition. The examination result will be recorded in the weekly examination of electrical equipment book and will be made available to authorized representatives of the Secretary and the miners at the mine.

(6) A qualified person as defined in existing 30 CFR 75.151 will continuously monitor for methane immediately before and during the use of diagnostic computers in or inby the last open crosscut.

(7) The diagnostic computer will not be used if methane is detected in concentrations at or above 1.0 percent. When 1.0 percent methane is detected, the diagnostic computer will be deenergized immediately and withdrawn outby the last open crosscut.

(8) Except for the time necessary to troubleshoot under actual mining conditions, coal production in the section will cease. However, coal may remain in the equipment in order to test and diagnose the equipment under “load”.

(9) The diagnostic computer will not be used to test equipment until a visual inspection of the area is completed to determine that the area is in compliance with 30 CFR 75.403.

(10) Personnel engaged in the use of the diagnostic computer will be properly trained to recognize the hazards and limitations associated with such diagnostic computer.

(11) Within 60 days after the proposed decision and order become final, the petitioner will submit proposed revisions for its approved 30 CFR part 48 training plan to the District Manager to ensure that the miners are aware of the stipulations contained in this petition. The procedure as required in 30 CFR 48.3 for approval of proposed revisions to already approved training plans will apply.

The petitioner asserts that the proposed alternative will provide a level of safety equal to or greater than the same measure of protection afforded the miners under the existing standard.

Docket Number: M-2017-042-C.

Petitioner: Cumberland Contura, LLC, Three Gateway Center, 401 Liberty Avenue, Suite 1500, Pittsburgh, Pennsylvania 15222-1000.

Mine: Cumberland Mine, MSHA I.D. No. 36-05018, located in Greene County, Pennsylvania.

Regulation Affected: 30 CFR 75.503 (Permissible electric face equipment; maintenance), 18.35(a)(5)(i) (Portable (trailing) cables and cords).

Modification Request: The petitioner requests a modification of the existing standard to permit an alternative method of compliance with respect to the length of cables identified in Schedule 2G 18.35.

The petitioner states that:

(1) This petition will apply only to trailing cables that supply 995-volt, three-phase, alternating current to continuous mining machine(s) and trailing cables that supply 575 volt, three phase, alternating current to loading machines, roof bolting machines, shuttle cars, and section ventilation fans. The trailing cables will have 90 °C insulation rating.

(2) Extended length trailing cable used on shuttle cars will be three conductor round cable either Type G-GC, Type G, or Type G+GC. When a Type G-GC or Type G+GC round cable is used with wireless ground wire monitoring, the ground-check conductor will be connected as a ground conductor.

(3) The maximum length of continuous mining machines, loaders, shuttle cars, roof bolters, and ventilation fan trailing cables will not exceed 1,000 feet.

(4) The trailing cable for the 995-volt continuous mining machines will not be smaller than a No. 2 American Wire Gauge (AWG).

(5) The trailing cables for the 575-volt loading machines will not be smaller than No. 2 AWG.

(6) The trailing cables for the 575-volt roof bolters, shuttle cars, and ventilation fans will not be smaller than No. 4 AWG.

(7) All circuit breakers used to protect No. 4 AWG trailing cables exceeding 600 feet in length will have instantaneous trip units calibrated to trip at 500 amperes. The trip setting of these circuit breakers will be sealed and will have permanent, legible labels. The label will identify the circuit breaker as being suitable for protecting No. 4 AWG cables and will be maintained.

(8) Replacement circuit breakers and/or instantaneous trip units used to protect No. 4 AWG trailing cables will be calibrated to trip at 500 amperes and this setting will be sealed.

(9) All circuit breakers used to protect No. 3 AWG trailing cables exceeding 700 feet in length will have instantaneous trip units calibrated to trip at 600 amperes. The trip setting of these circuit breakers will be sealed and will have permanent, legible labels. The label will identify the circuit breaker as being suitable for protecting No. 3 AWG cables and will be maintained.

(10) Replacement circuit breakers and/or instantaneous trip units, used to protect No. 3 AWG trailing cables will be calibrated to trip at 600 amperes and this setting will be sealed.

(11) All circuit breakers used to protect No. 1 AWG trailing cables exceeding 750 feet in length will have instantaneous trip units calibrated to trip at 1,000 amperes. The trip setting of these circuit breakers will be sealed and will have permanent, legible labels. The label will identify the circuit breaker as being suitable for protecting No. 1 AWG cables and will be maintained.

(12) Replacement circuit breakers and/or instantaneous trip units used to protect No. 1 AWG trailing cables will be calibrated to trip at 1,000 amperes and this setting will be sealed.

(13) All circuit breakers used to protect No. 1/0 AWG trailing cables exceeding 800 feet in length will have instantaneous trip units calibrated to trip at 1,250 amperes. The trip setting of these circuit breakers will be sealed and will have permanent, legible labels. The label will identify the circuit breakers as being suitable for protecting No. 1/0 AWG cables and will be maintained.

(14) Replacement circuit breakers and/or instantaneous trip units, used to protect No. 1/0 AWG trailing cables will be calibrated to trip at 1,250 amperes and this setting will be sealed.

(15) All circuit breakers used to protect No. 3 AWG trailing cables exceeding 900 feet in length will have instantaneous trip units calibrated to trip at 2,000 amperes. The trip setting of these circuit breakers will be sealed and will have permanent, legible labels. The label will identify the circuit breakers as being suitable for protecting No. 3 AWG cables and will be maintained.

(16) Replacement circuit breakers and/or instantaneous trip units, used to protect No. 3 AWG trailing cables will be calibrated to trip at 2,000 amperes and this setting will be sealed.

(17) All circuit breakers used to protect No. 2 AWG trailing cables exceeding 700 feet in length will have instantaneous trip units calibrated to trip at 800 amperes. The setting of these circuit breakers will be sealed and will have permanent, legible labels. The label will identify the circuit breaker as being suitable for protecting No. 2 AWG cables and will be maintained.

(18) Replacement circuit breakers and/or instantaneous trip units, used to protect No. 2 AWG trailing cables will be calibrated to trip at 800 amperes and this setting will be sealed.

(19) All circuit breakers used to protect No. 2/0 AWG trailing cables exceeding 850 feet in length will have instantaneous trip units calibrated to trip at 1,500 amperes. The setting of these circuit breakers will be sealed and will have permanent, legible labels. The label will identify the circuit breaker as being suitable for protecting No. 2/0 AWG cables and will be maintained.

(20) Replacement circuit breakers and/or instantaneous trip units used to protect No. 2/0 AWG trailing cables will be calibrated to trip at 1,500 amperes and this setting will be sealed.

(21) All components that provide short-circuit protection will have a sufficient interruption rating in accordance with the maximum calculated fault currents available.

(22) During each production day, persons designated by the operator will visually examine the trailing cables to ensure that the cables are in safe operating condition and that the instantaneous settings of the specially calibrated breakers do not have seals removed or tampered with and that they do not exceed the stipulated settings.

(23) Any trailing cable that is not in safe operating condition will be removed from service immediately and repaired or replaced.

(24) Each splice or repair in the trailing cables to the continuous mining machines, loaders, shuttle cars, roof bolters, and ventilation fans will be made in a workmanlike manner and in accordance with the instructions of the manufacturer of splice and repair materials. The splice or repair will comply with 30 CFR 75.603 and 75.604 requirements. The outer jacket of each splice or repair will be vulcanized with flame-resistant material or made with material that has been accepted by MSHA as flame-resistant.

(25) Permanent warning labels will be installed and maintained on the cover(s) of the power center identifying the location of each sealed short-circuit protective device. These labels will warn miners not to change or alter these sealed short-circuit settings.

(26) In the event mining methods or operating procedures cause or contribute to the damage of any trailing cable, the cable will be removed from service immediately and repaired or replaced. Also, additional precautions will be taken to ensure that haulage roads and trailing cable storage areas are situated to minimize contact of the trailing cable with continuous mining machines, loading machines, shuttle cars, roof bolters, and ventilation fans. Moreover, trailing cable anchors on the cable reel equipment will be of the permanent type that minimizes the tensile forces on the trailing cables.

(27) Where the method of mining would require that trailing cables cross roadways or haulageways, the cables will be securely supported from the mine roof or a substantial bridge for equipment to pass over the cables will be used.

(28) Excessive cable will be stored behind the anchor(s) on equipment that use cable reels to prevent cable overheating.

(29) The petitioner's alternative method will not be implemented until all miners who have been designated to examine the integrity of seals, verify the short-circuit settings, and examine trailing cables for defects have received training.

(30) The equipment listed in this petition will comply with all other applicable requirements of the Federal Mine Safety and Health Act of 1977 and the applicable requirements of 30 CFR part 75.

(31) Within 60 days after the proposed decision and order becomes final, the petitioner will submit proposed revisions for its approved 30 CFR part 48 training plan to the District Manager for the area in which the mine is located. These proposed revisions will specify task training for miners designated to examine the trailing cables for safe operating condition and verify that the short-circuit settings of the circuit interrupting devices that protect the affected trailing cables do not exceed the settings specified in this petition. The training will include the following:

(a) The hazards of setting the circuit interrupting devices too high to adequately protect the trailing cables.

(b) How to verify that the circuit interrupting devices protecting the trailing cables are properly set and maintained.

(c) Mining and operating procedures that will protect the trailing cables against damage.

(d) How to protect the trailing cables against damage caused by overheating cables due to excessive cable stored on cable reel(s) and adjusting stored cable behind the cable anchor(s) as tramming distances change.

(e) Proper procedures for examining the trailing cables to ensure that cables are in safe operating condition by a visual inspection of the entire cable, observing the insulation, the integrity of splices, and nicks and abrasions.

The petitioner asserts that a decision in favor of this petition will in no way provide less than the same measure of protection afforded the miners under the existing standard.

Docket Number: M-2018-001-M.

Petitioner: Martin Marietta Kansas City, LLC, 1099 18th Street, Suite 2150, Denver, Colorado 80202.

Mine: Randolph Deep Mine, MSHA I.D. No. 23-02308, located in Clay County, Missouri; Stamper Underground Mine, MSHA I.D. No. 23-02232 and Parkville Quarry, MSHA I.D. No. 23-01883, located in Platte County, Missouri.

Regulation Affected: 30 CFR 49.6(a)(1) (Equipment and maintenance requirements).

Modification Request: The petitioner requests a modification of the existing standard to permit the maintenance of a minimum of six approved self-contained breathing apparatus at its mine rescue station in lieu of twelve self-contained breathing apparatus. The petitioner proposes to maintain a mine rescue station with a minimum of six approved self-contained breathing apparatus and all equipment identified in 30 CFR 49(a)(2) through (a)(9). This station would contain sufficient equipment to equip one mine rescue team.

The petitioner states that:

(1) The Randolph Deep Mine is an underground limestone mine with active workings accessed from the surface via twin declines, located adjacent to one another and each 6750 feet long. It is a room and pillar mine with multiple openings to active mining areas.

(2) The Stamper Underground Mine is an underground limestone mine with active workings accessed from the surface via two separate adits or entries; a decline for foot and vehicular traffic that is 1800 feet long and a single escape shaft, which is 350 feet in depth and equipped with a hoist for emergency evacuation. It is a room and pillar mine with multiple openings to active mining areas.

(3) The Parkville Quarry is an underground limestone mine with active workings accessed from the surface via three separate adits or entries; a 900 feet long decline for foot and vehicular traffic and two shafts equipped with ladders for emergency evacuation. Shaft No. 1 is 145 feet deep and Shaft No. 2 is 190 feet deep. It is a room and pillar mine with multiple openings to active mining areas.

(4) The petitioner has established a single mine rescue team to serve as the primary mine rescue team for all three of the mine sites. The mine rescue team consists of seven qualified and trained members.

(5) The petitioner has entered into an agreement with Central Plains Cement Company (“Central Plains”) whereby Central Plains agrees to provide mine rescue services by the Sugar Creek Mine Rescue Team as needed to petitioner. Central Plains is controlled by Eagle Materials, Inc. Similarly, petitioner has agreed to provide mine rescue services as needed to Central Plains.

(6) The petitioner has a mine rescue station located at the Randolph Deep Mine which previously contained equipment sufficient only to supply one mine rescue team. Both the Stamper Underground Mine and the Parkville Quarry are within thirty minutes or less of ground travel time from the Randolph Deep mine. Sugar Creek had its own mine rescue station located within fifteen minutes of ground travel time from the Randolph mine. The Sugar Creek mine rescue station initially contained equipment sufficient to equip one mine rescue team. As of December 20, 2017, petitioner has relocated certain mine rescue team equipment, including six self-contained breathing apparatus, gas monitors, cap lamps, and oxygen bottles to the Sugar Creek Mine rescue station to ensure that the combined mine rescue station is in compliance with 30 CFR 49.6(a).

(7) Pursuant to the mine rescue services arrangement between petitioner and Central Plains, there will always be two mine rescue teams available whenever miners are underground and a minimum of twelve approved self-contained breathing apparatus available for a mine emergency. When maintained in the individual mine rescue stations, the apparatus could be used immediately or transported to another mine within a maximum forty-five minutes ground travel time.

(8) The Petitioner proposes the following for its mine rescue station:

(a) Self-Contained Breathing Apparatus: The mine rescue station will be equipped with a minimum of six self-contained breathing apparatus, each with a minimum of four hours capacity (approved by MSHA and the National Institute for Occupational Safety and Health under 42 CFR part 84, subpart H), and any necessary equipment for testing such apparatus.

(b) The mine operator will maintain a mine rescue station provided with all equipment identified in 30 CFR 49.6(a)(2) through (a)(9).

The petitioner asserts that the proposed alternative method will at all times guarantee no less than the same measure of protection afforded the miners under the existing standard.

Sheila McConnell,
Director, Office of Standards, Regulations, and Variances.

[FR Doc. 2018-02071 Filed 2-1-18; 8:45 am]

BILLING CODE 4520-43-P